DEPARTMENT OF HEALTH AND HUMAN SERVICES

Meeting of the Tick-Borne Disease Working Group

AGENCY: Office of the Assistant Secretary for Health, Office of the Secretary, Department of Health and Human Services.

ACTION: Notice.

SUMMARY: As required by the Federal Advisory Committee Act, the Department of Health and Human Services (HHS) is hereby giving notice that the Tick-Borne Disease Working Group (TBDWG) will hold a virtual meeting. The meeting will be open to the public. During this meeting, the TBDWG will finalize and vote on the 2020 report to the HHS Secretary and Congress. The agenda will be available on the website prior to the meeting. The 2020 report will address ongoing tick-borne disease research, including research related to causes, prevention, treatment, surveillance, diagnosis, diagnostics, and interventions for individuals with tick-borne diseases; advances made pursuant to such research; Federal activities related to tick-borne diseases; and gaps in tick-borne disease research

DATES: The meeting will be held online via webcast on December 2, 2020, from approximately 9:00 a.m. to 5:00 p.m. ET (times are tentative and subject to change). The confirmed times and agenda items for the meeting will be posted on the TBDWG web page at https://www.hhs.gov/ash/advisory-committees/tickbornedisease/meetings/2020-12-2/index.html when this information becomes available.

FOR FURTHER INFORMATION CONTACT: James Berger, Designated Federal Officer for the TBDWG; Office of Infectious Disease and HIV/AIDS Policy, Office of the Assistant Secretary for Health, Department of Health and Human Services, Mary E. Switzer Building, 330 C Street SW, Suite L600, Washington, DC 20024. Email: tickbornedisease@hhs.gov; Phone: 202-795-7608.

SUPPLEMENTARY INFORMATION: Please register for the meeting at https://events-na4.adobeconnect.com/content/connect/c1/841425677/en/events/event/shared/1840895551/event_landing.html?sco-id=1840508041&_charset_=utf-8. After registering, you will receive an email confirmation with a personalized link to access the webcast on December 2, 2020.

The public will have an opportunity to present their views to the TBDWG orally during the meeting's public comment session or by submitting a written public comment. Comments should be pertinent to the meeting discussion. Persons who wish to provide verbal or written public comment should review instructions at https://www.hhs.gov/ash/advisory-committees/tickbornedisease/meetings/2020-12-2/index.html and respond by midnight November 24, 2020, ET. Verbal comments will be limited to three minutes each to accommodate as many speakers as possible during the 30 minute session. Written public comments will be accessible to the public on the TBDWG web page prior to the meeting.

Background and Authority: The Tick-Borne Disease Working Group was established on August 10, 2017, in accordance with Section 2062 of the 21st Century Cures Act, and the Federal Advisory Committee Act, 5 U.S.C. App., as amended, to provide expertise and review Federal efforts related to all tick-borne diseases, to help ensure interagency coordination and minimize overlap, and to examine research priorities. The TBDWG is required to submit a report to the HHS Secretary and Congress on their findings and any recommendations for the Federal response to tick-borne disease every two years.

Dated: November 10, 2020.
B. Kaye Hayes,
Acting Director, Office of Infectious Disease and HIV/AIDS Policy.

[FR Doc. 2020-25312 Filed 11-16-20; 8:45 am]

BILLING CODE 4150-28-P